DEPARTMENT OF ENERGY

Federal Energy Regulatory Commission

[Docket No. CP05-387-000]

Natural Gas Pipeline Company of America; Notice of Application

June 27, 2005.

Take notice that on June 16, 2005, Natural Gas Pipeline Company of America (Natural), with an office at 747 East 22nd Street, Lombard, Illinois 60148, filed in Docket No. CP05-387-000 an abbreviated application pursuant to section 7(c) of the Natural Gas Act, as amended, and part 157 of the Federal Energy Regulatory Commission's regulations requesting an amendment to the Certificate issued to Natural in 1965 when it acquired the Sayer gas storage field located in Beckham County, Oklahoma, to expressly include the bottom 200 feet of the Wellington formation as the necessary caprock of the Sayer field. Natural states that this amendment will enable it to acquire all necessary property interests in the lower 200 feet of the Wellington formation and thereby protect the integrity of the Sayer storage reservoir.

The application is on file with the Commission and open to public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or call (202) 502-3676 or TTY, (202) 502-8659.

Any questions regarding this application should be directed to Counsel for Natural Gas Pipeline Company of America, Philip R. Tellen, 747 East 22nd Street Lombard, Illinois 60148, at (630) 691-3749.

Any person desiring to intervene or to protest this filing must file in accordance with Rules 211 and 214 of the Commission's Rules of Practice and procedure (18 CFR 385.211 and 385.214). Protests will be considered by the Commission in determining the appropriate action to be taken, but will not serve to make protestants parties to the proceeding. Any person wishing to become a party must file a notice of intervention or motion to intervene, as appropriate. Such notices, motions, or protest must be filed on or before the date as indicated below. Anyone filing a motion to intervene or protest must serve a copy of that document on the Applicant. On or before the comment date, it is not necessary to serve motions to intervene or protests on persons other than the Applicant.

The Commission strongly encourages electronic filings of comments, protests, and interventions via the Internet in lieu of paper. See 18 CFR 385.2001(a)(1)(iii) and the instructions on the Commission's Web site (http://www.ferc.gov) under the “e-Filing” link.

Comment Date: July 18, 2005.

Magalie R. Salas,
Secretary.

[FR Doc. E5-3535 Filed 7-5-05; 8:45 am]

BILLING CODE 6717-01-P